DEPARTMENT OF ENERGY

Federal Energy Regulatory Commission

[Docket No. CP13-83-000]

Arlington Storage Company, LLC, LP; Notice of Reopening of Comment Period

On September 13, 2013, the Commission issued a notice setting October 15, 2013, as the date to file comments regarding the Gallery 2 Expansion Project Environmental Assessment. Because of the limited funding to federal programs and resources between October 1 and 16, 2013, the Commission is reopening the comment period to allow affected agencies and others the opportunity to comment. This reopened comment period now expires on November 1, 2013.

Dated: October 18, 2013.
Kimberly D. Bose,
Secretary.

[FR Doc. 2013-25047 Filed 10-24-13; 8:45 am]

BILLING CODE 6717-01-P